DEPARTMENT OF TRANSPORTATION

Federal Aviation Administration

Antidrug and Alcohol Misuse Prevention Program for Personnel Engaged in Specified Aviation Activities; Correction

ACTION: Notice; correction.

SUMMARY: On December 5, 2000, the Federal Aviation Administration (FAA) published a notice at 65 FR 76000 that announced to the public the minimum percentage rate for drug and alcohol testing for the year 2001. In that notice, the FAA included a numerical error on page 76001; this number refers to the alcohol violation rate for the year 1999. This document corrects that minor error.

FOR FURTHER INFORMATION CONTACT: Arnold N. Schwartz, Office of Aviation Medicine (AAM-810), Federal Aviation Administration, 800 Independence Ave., SW., Washington, DC 20591; telephone (202) 267-8932.

Correction

On page 76001 (65 FR 76001), in the second column, fifth paragraph, seventh line, “0.42” should read “.06”.

Issued in Washington, DC on December 20, 2000.
Jon L. Jordan,
Federal Air Surgeon.

[FR Doc. 00-32970 Filed 12-28-00; 8:45 am]

BILLING CODE 1410-13-M